NATIONAL AERONAUTICS AND SPACE ADMINISTRATION

[Notice (02-056)]

Notice of Prospective Patent License

AGENCY: National Aeronautics and Space Administration.

ACTION: Notice of prospective patent license.

SUMMARY: NASA hereby gives notice that Makel Engineering, Inc., of Chico, California, has applied for an exclusive license to practice the inventions disclosed in U.S. Patent No. 6,027,954 entitled “Gas Sensing Diode and Method of Manufacturing,” (NASA Case No. 16,519-1); and U.S. Patent No. 6,291,838 entitled “Gas Sensing Diode Comprising SiC” (NASA Case No. LEW 16,519-2), both of which are assigned to the United States of America as represented by the Administrator of the National Aeronautics and Space Administration.

Written objections to the prospective grant of a license should be sent to NASA Glenn Research Center.

NASA has not yet made a determination to grant the requested license and may deny the requested license even if no objections are submitted within the comment period.

DATES: Responses to this notice must be received by July 8, 2002.

FOR FURTHER INFORMATION CONTACT: Kent N. Stone, Patent Attorney, NASA Glenn Research Center, Mail Stop 500-118, 21000 Brookpark Road, Cleveland, Ohio 44135, telephone: (216) 433-8855.

Dated: May 2, 2002.
Robert M. Stephens,
Deputy General Counsel.

[FR Doc. 02-11625 Filed 5-8-02; 8:45 am]

BILLING CODE 7510-01-P